DEPARTMENT OF EDUCATION

34 CFR Part 200

RIN 1810-AA91

Title I—Improving the Academic Achievement of the Disadvantaged; Correction

AGENCY: Office of Elementary and Secondary Education, Department of Education.

ACTION: Final regulations; correction.

SUMMARY: The Department published, in the Federal Register of December 2, 2002, regulations governing the programs administered under Title I, parts A, C and D of the Elementary and Secondary Education Act (ESEA), as amended. The December 2, 2002 document contained minor errors regarding the Title I, part C, Migrant Education Program. This document corrects the errors.

DATES: January 2, 2003.

FOR FURTHER INFORMATION CONTACT: James English, Office of Migrant Education, Office of Elementary and Secondary Education, 400 Maryland Avenue, Room 3E315, FOB-6, SW., Washington, DC 20202-6135. Telephone: (202) 260-1394 or via the Internet: james.english@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION: In the final regulations published on December 2, 2002 (67 FR 71710), make the following corrections:

PART 200—[CORRECTED]

§ 200.82 [Corrected]

1. On page 71737, in the first column, the introductory text of § 200.82 is corrected by revising the cross-reference from “§ 200.101” to “§ 200.100(b)(4).”

§§ 200.83, 200.84 [Corrected]

2. On page 71737, in the third column, the Office of Management and Budget control number is corrected to be 1810-0662 for §§ 200.83 and 200.84.

§ 200.86 [Corrected]

3. On page 71737, in the third column, the text of § 200.86 is corrected by revising the cross-reference from “§ 200.28(c)(3)(i)” to “§ 200.29(c)(1).”

§ 200.88 [Corrected]

4. On page 71738, in the first column, the Office of Management and Budget control number is corrected to be 1810-0662 for § 200.88.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Number 84.011: Title I, Education of Migrant Children)
Dated: April 15, 2003.
Eugene W. Hickok,
Under Secretary of Education.

[FR Doc. 03-9654 Filed 4- 17-03; 8:45 am]

BILLING CODE 4000-01-M